DEPARTMENT OF THE INTERIOR

Minerals Management Service

Notice of Additional Information for a Public Hearing on the Draft Environmental Impact Statement (EIS) for the Proposed 5-Year Outer Continental Shelf (OCS) Oil and Gas Leasing Program for 2007-2012

AGENCY: Minerals Management Service (MMS), Interior.

SUMMARY: Pursuant to the regulations implementing the procedural provisions of the National Environmental Policy Act (42 U.S.C. 4321, et seq.), the Minerals Management Service (MMS) announced Public Hearings to solicit comments on the Draft EIS for the Proposed 2007-2012 OCS Oil and Gas 5-Year Leasing Program in the Federal Register notice on September 26, 2006. The notice did not include specific information on place and time for the Public Hearing in Norfolk, Virginia. That specific information is now attached below. Statements, both oral and written, will be received at the hearing. Persons wishing to speak may be put on the speakers' list by the MMS contact listed below in advance of the public hearing or may sign up at the hearing. Time limits may be set on oral testimony to allow time for all speakers to participate.

Date and Location of Public Hearing: November 14, 2006—Radisson Hotel, 700 Monticello Avenue, Norfolk, Virginia, 1 p.m., contact: Dr. Norman Froomer, (703) 787-1644. Information concerning the Draft EIS for the Proposed 5-Year Outer Continental Shelf Oil and Gas Leasing Program for 2007-2012 can be accessed at http://www.mms.gov/5-year/.

FOR FURTHER INFORMATION CONTACT: Minerals Management Service, Mr. James Bennett, Chief, Branch of Environmental Assessment, 381 Elden Street, Mail Stop 4042, Herndon, Virginia 20170, (703) 787-1660.

Dated: October 2, 2006.
Walter D. Cruickshank,
Acting Director, Minerals Management Service.

[FR Doc. E6-17243 Filed 10-16-06; 8:45 am]

BILLING CODE 4310-MR-P